DEPARTMENT OF HEALTH AND HUMAN SERVICES

Administration for Children and Families

Submission for OMB Review; Comment Request

Title: National Evaluation of the Sexual Risk Avoidance Education (SRAE) Program.

OMB No.: [NEW].

Description: The Administration for Children and Families (ACF) proposes a data collection effort related to the National Evaluation of the Sexual Risk Avoidance Education (SRAE) Program—National Descriptive Study.

The National Descriptive Study (of the National Evaluation of the SRAE Program) has multiple components. This information collection request only pertains to the Early Implementation Study, which will provide an early catalogue of SRAE programs' implementation. ACF seeks approval to collect the following information:

—Survey for Use with SRAE grantees. The purpose of this collection effort is to conduct surveys with administrators/program directors in each of the states/organizations that received SRAE grants to better understand what key decisions states/organizations made regarding the design of their SRAE-funded programs and why they made those decisions.

—Interview Guide for Use with SRAE grantees. The purpose of this collection effort is to conduct semi-structured interviews, that follow-on the surveys, with administrators/program directors in each of the states/organizations that received SRAE grants: the interviews will offer long-answer, qualitative responses to key questions, to better understand what key decisions states/organizations made regarding the design of their SRAE-funded programs and why they made those decisions.

Respondents: State level administrators; Agency administrators; Organization heads; Project directors.

Annual Burden Estimates
Instrument | Total number of respondents | Annual number of respondents | Number of responses per respondent | Average burden hours per response | Annual burden hours
Survey for SRAE Grantees | 85 | 28 | 1 | 1.5 | 42
Interview Guide for SRAE Grantees | 85 | 28 | 1 | 1.5 | 42

Estimated Total Annual Burden Hours: 84 hours.

Additional Information: Copies of the proposed collection may be obtained by emailing OPREinfocollection@acf.hhs.gov. Alternatively, copies can also be obtained by writing to the Administration for Children and Families, Office of Planning, Research and Evaluation, 330 C Street SW, Washington, DC 20201, Attn: OPRE Reports Clearance Officer. All requests, emailed or written, should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary B. Jones,
ACF/OPRE Certifying Officer.

[FR Doc. 2019-08322 Filed 4-24-19; 8:45 am]

BILLING CODE 4184-83-P